DEPARTMENT OF TRANSPORTATION

Federal Aviation Administration

14 CFR Part 39

[Docket No. FAA-2020-0905; Product Identifier 2019-SW-102-AD]

RIN 2120-AA64

Airworthiness Directives; Airbus Helicopters

AGENCY: Federal Aviation Administration (FAA), DOT.

ACTION: Notice of proposed rulemaking (NPRM).

SUMMARY: The FAA proposes to supersede Airworthiness Directive (AD) 2015-26-01, which applies to certain Airbus Helicopters Model AS332C1, AS332L1, AS332L2, EC225LP, AS-365N2, AS 365 N3, EC 155B, and EC155B1 helicopters with an energy-absorbing seat. AD 2015-26-01 requires inspecting for the presence of labels (placards) that prohibit stowing anything under the seat, and if a label (placard) is missing or not clearly visible to each occupant, installing a label (placard). Since the FAA issued AD 2015-26-01, the FAA has determined that additional helicopters are affected by the unsafe condition, and that new labels (placards) are required for all affected helicopters. This proposed AD would retain all of the requirements of AD 2015-26-01. This proposed AD would also add helicopters to the applicability and require a modification (installing new labels (placards)). The FAA is proposing this AD to address the unsafe condition on these products.

DATES: The FAA must receive comments on this proposed AD by November 23, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus Helicopters, 2701 N Forum Drive, Grand Prairie, TX 75052; phone: 972-641-0000 or 800-232-0323; fax: 972-641-3775; or at https://www.airbus.com/helicopters/services/technical-support.html. You may view this service information at the FAA, Office of the Regional Counsel, Southwest Region, 10101 Hillwood Pkwy., Room 6N-321, Fort Worth, TX 76177. For information on the availability of this material at the FAA, call 817-222-5110.

Examining the AD Docket

You may examine the AD docket on the internet at https://www.regulations.gov by searching for and locating Docket No. FAA-2020-0905; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Kathleen Arrigotti, Aviation Safety Engineer, Large Aircraft Section, International Validation Branch, FAA, 2200 South 216th St., Des Moines, WA 98198; phone and fax: 206-231-3218; email: kathleen.arrigotti@faa.gov.

SUPPLEMENTARY INFORMATION:

Comments Invited

The FAA invites you to send any written relevant data, views, or arguments about this proposal. Send your comments to an address listed under the ADDRESSES section. Include “Docket No. FAA-2020-0905; Product Identifier 2019-SW-102-AD” at the beginning of your comments. The most helpful comments reference a specific portion of the proposal, explain the reason for any recommended change, and include supporting data. The FAA will consider all comments received by the closing date and may amend this proposed AD based on those comments.

Except for Confidential Business Information (CBI) as described in the following paragraph, and other information as described in 14 CFR 11.35, the FAA will post all comments received, without change, to https://www.regulations.gov, including any personal information you provide. The FAA will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kathleen Arrigotti, Aviation Safety Engineer, Large Aircraft Section, International Validation Branch, FAA, 2200 South 216th St., Des Moines, WA 98198; phone and fax: 206-231-3218; email: kathleen.arrigotti@faa.gov. Any commentary that the FAA receives which is not specifically designated as CBI will be placed in the public docket for this rulemaking.

Discussion

The FAA issued AD 2015-26-01, Amendment 39-18349 (80 FR 79466, December 22, 2015) (“AD 2015-26-01”), for certain Airbus Helicopters Model AS332C1, AS332L1, AS332L2, EC225LP, AS-365N2, AS 365 N3, EC 155B, and EC155B1 helicopters with an energy-absorbing seat. AD 2015-26-01 requires inspecting for the presence of labels (placards) that prohibit stowing anything under the seat, and if a label (placard) is missing or not clearly visible to each occupant, installing a label (placard). AD 2015-26-01 resulted from the discovery that required labels (placards) had not been systematically installed. The FAA issued AD 2015-26-01 to address any object stowed under an energy-absorbing seat, which could reduce the efficiency of the energy-absorbing function of the seat, resulting in injury to the seat occupants during an accident.

Actions Since AD 2015-26-01 Was Issued

Since AD 2015-26-01 was issued, the FAA has determined that additional helicopters are affected by the unsafe condition, and that new labels (placards) are required for all affected helicopters.

The European Union Aviation Safety Agency (EASA), which is the Technical Agent for the Member States of the European Union, has issued EASA AD 2019-0088R1, dated November 8, 2019 (referred to after this as the Mandatory Continuing Airworthiness Information, or “the MCAI”), to correct an unsafe condition for certain Airbus Helicopters Model AS332C, AS332C1, AS332L, AS332L1, AS332L2, EC225LP, AS-365N2, AS 365 N3, EC 155B and EC155B1 helicopters with an energy-absorbing seat. EASA advised that during certification of an energy-absorbing seat with a new part number, the labels (placards) that require keeping the space under the seat free of any object were not systematically installed. EASA stated that this condition, if not corrected, could prompt occupants to stow objects under an energy-absorbing seat, which would reduce the effectiveness of the seat and the occupants' chance of surviving an accident. EASA consequently issued AD 2014-0204, dated September 11, 2014; corrected September 12, 2014 (which corresponds to FAA AD 2015-26-01) to require a one-time inspection for the presence of labels (placards) and, if they were missing or unreadable, making and installing labels (placards) prohibiting the placing of an object under an energy absorbing seat. EASA later advised, in EASA AD 2017-0226, dated November 17, 2017 (“EASA AD 2017-0226”), which superseded EASA AD 2014-0204, that additional new labels (placards) were required and that additional helicopters were affected by the unsafe condition. In this MCAI, which supersedes EASA AD 2017-0226, EASA advised that additional extended compliance times were necessary for certain helicopters.

You may examine the MCAI in the AD docket on the internet at https://www.regulations.gov by searching for and locating Docket No. FAA-2020-0905.

Related Service Information Under 1 CFR Part 51

Airbus Helicopters has issued the following service information. This service information describes procedures for installing new labels (placards) prohibiting stowage of any object under an energy-absorbing seat. These documents are distinct since they apply to different helicopter models.

• Airbus Helicopters Alert Service Bulletin No. AS332-25.03.16, Revision 0, dated September 7, 2017.

• Airbus Helicopters Alert Service Bulletin No. AS332-25.03.41, Revision 0, dated September 7, 2017.

• Airbus Helicopters Alert Service Bulletin No. AS332-25.03.42, Revision 0, dated September 7, 2017.

• Airbus Helicopters Alert Service Bulletin No. AS365-25.01.67, Revision 0, dated February 12, 2019.

• Airbus Helicopters Alert Service Bulletin No. EC155-25A144, Revision 0, dated February 12, 2019.

• Airbus Helicopters Alert Service Bulletin No. EC225-25A179, Revision 1, dated November 6, 2019.

• Airbus Helicopters Alert Service Bulletin No. EC225-25A203, Revision 0, dated September 7, 2017.

Airbus Helicopters has also issued the following service information. This service information describes procedures for inspecting for labels, placards, or markings that prohibit stowing anything under certain seats and installing a placard. These documents are distinct since they apply to different helicopter models.

• Airbus Helicopters Alert Service Bulletin No. AS332-01.00.85, Revision 1, dated September 7, 2017.

• Airbus Helicopters Alert Service Bulletin No. AS365-01.00.66, Revision 1, dated February 12, 2019.

• Airbus Helicopters Alert Service Bulletin No. EC155-04A013, Revision 1, dated February 12, 2019.

• Airbus Helicopters Alert Service Bulletin No. EC225-04A012, Revision 2, dated November 6, 2019.

This proposed AD would also require the following service information, which the Director of the Federal Register approved for incorporation by reference as of January 26, 2016 (80 FR 79466, December 22, 2015).

• Airbus Helicopters Alert Service Bulletin No. AS332-01.00.85, Revision 0, dated August 26, 2014.

• Airbus Helicopters Alert Service Bulletin No. AS365-01.00.66, Revision 0, dated August 26, 2014.

• Airbus Helicopters Alert Service Bulletin No. EC155-04A013, Revision 0, dated August 26, 2014.

• Airbus Helicopters Alert Service Bulletin No. EC225-04A012, Revision 0, dated August 26, 2014.

This service information is reasonably available because the interested parties have access to it through their normal course of business or by the means identified in the ADDRESSES section.

Other Related Service Information

Airbus Helicopters issued Airbus Helicopters Alert Service Bulletin No. EC225-04A012, Revision 1, dated September 7, 2017, which describes procedures for inspecting for labels, placards, or markings that prohibit stowing anything under certain seats and installing a placard.

Airbus Helicopters has also issued Airbus Helicopters Alert Service Bulletin No. EC225-25A179, Revision 0, dated September 7, 2017, which describes procedures for installing new labels (placards) prohibiting stowage of any object under an energy-absorbing seat.

FAA's Determination

This product has been approved by the aviation authority of another country, and is approved for operation in the United States. Pursuant to the FAA's bilateral agreement with the State of Design Authority, the FAA has been notified of the unsafe condition described in the MCAI and service information referenced above. The FAA is proposing this AD after evaluating all the relevant information and determining the unsafe condition described previously is likely to exist or develop on other products of the same type design.

Proposed Requirements of this NPRM

This proposed AD would retain all of the requirements of AD 2015-26-01. This proposed AD would require accomplishing the actions specified in the service information described previously.

Clarification of the Retained Compliance Times

Paragraph (g) of AD 2015-26-01 specified the compliance time as: “Within 110 hours time in service.” The FAA has included clarification of the retained compliance time for paragraph (g) of this NPRM, that specifies: “Within 110 hours time in service after January 26, 2016 (the effective date of AD 2015-26-01) . . .”

Clarification of the Generic Part Number for Seat Type

Figure 1 to paragraph (a) of AD 2015-26-01 specifies an incorrect generic part number for Socea Sogerma seat type ST107. The FAA has corrected that generic part number in figure 1 to paragraphs (c) and (j) of this proposed AD. The incorrect generic part number was 2010107-xx-xx; the correct generic part number is 2510107-xx-xx.

Costs of Compliance

The FAA estimates that this proposed AD affects 90 helicopters of U.S. registry. The FAA estimates the following costs to comply with this proposed AD:

Estimated Costs for Required Actions
Action | Labor cost | Parts cost | Cost per product | Cost on U.S. operators
Inspection (52 Helicopters) (Retained actions from AD 2015-26-01) | 1 work-hour × $85 per hour = $85 | $0 | $85 | $4,420
Install label (placard) (52 Helicopters) (Retained actions from AD 2015-26-01) | 2 work-hours × $85 per hour = $170 | $Minimal | 170 | 8,840
Inspection (38 Helicopters) (New proposed actions) | 1 work-hour × $85 per hour = $85 | $0 | 85 | 3,230
Install label (placard) (38 Helicopters) (New proposed actions) | 2 work-hours × $85 per hour = $170 | $Minimal | 170 | 6,460
Install new label (placard) (New proposed actions) | 2 work-hours × $85 per hour = $170 | $Minimal | 170 | 15,300

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-26-01, Amendment 39-18349 (80 FR 79466, December 22, 2015), and adding the following new AD:

Airbus Helicopters: Docket No. FAA-2020-0905; Product Identifier 2019-SW-102-AD.

(a) Comments Due Date

The FAA must receive comments by November 23, 2020.

(b) Affected ADs

This AD replaces AD 2015-26-01, Amendment 39-18349 (80 FR 79466, December 22, 2015) (“AD 2015-26-01”).

(c) Applicability

This AD applies to Airbus Helicopters Model AS332C, AS332C1, AS332L, AS332L1, AS332L2, EC225LP, AS-365N2, AS 365 N3, EC 155B and EC155B1 helicopters, certificated in any category, equipped with at least one energy-absorbing seat listed in figure 1 to paragraphs (c) and (j) of this AD, except any helicopter embodying the applicable Airbus Helicopters modifications on all applicable seat positions listed in figure 2 to paragraph (c) of this AD.

Figure 1 to Paragraphs (c) and (j)—Affected Seats
Seat manufacturer | Seat type | Generic P/N
Fischer + Entwicklungen | H110 | 9606-( )-( )-( ).
| H140 | 0520-( )-( )-( ).
| H160 | 0718-( )-( )-( )-( ).
| 185/410 | 9507-( )-( )-( ).
| 236/406 | 9608-( )-( )-( ).
SICMA Aero Seat or Zodiac Seats France | Sicma 192 | 192xx-xx-xx.
| Sicma 159 | 1591718-xx.
|  | 159110.
Socea Sogerma | ST102 | 2510102-xx-xx.
| ST107 | 2510107-xx-xx.
| ST120 | 2520120-xx.

Note 1 to Figure 1 to paragraphs (c) and (j): “xx” can be any two alphanumeric characters and “()” can be any number of alphanumeric characters.

Figure 2 to Paragraph (c)—Modifications (Installation of Label (Placard) Prohibiting Storage Under the Seat)
Helicopter type | Modification | Seat (position)
AS332C, AS332C1, AS332L, AS332L1, AS332L2 | 0728251 or 332P084159 | Cabin.
| 0728352 or 332P084160 | Cockpit.
| 0728403 or 332P084161 | 3rd Crew Member.
EC225LP | 0728251, or 332P084159, or 332P085421.00, or 332P085421.01, or 332P085421.02 or 332P085421.03 | Cabin.
| 0728352 or 332P084160 | Cockpit.
AS-365N2, AS 365 N3, EC 155B, EC155B1 | 365V874113.00 | All seat configurations.

(d) Subject

Air Transport Association (ATA) of America Code 11, Placards and markings.

(e) Reason

This AD was prompted by the discovery that required labels (placards) prohibiting stowage of any object under an energy-absorbing seat had not been systematically installed. The FAA is issuing this AD to address any object stowed under an energy-absorbing seat which could reduce the efficiency of the energy-absorbing function of the seat, resulting in injury to the seat occupants during an accident.

(f) Compliance

Comply with this AD within the compliance times specified, unless already done.

(g) Retained Inspection and Corrective Actions With Revised Service Information

This paragraph restates the requirements of paragraph (e) of AD 2015-26-01, with revised service information. Within 110 hours time in service after January 26, 2016 (the effective date of AD 2015-26-01), do the actions specified in paragraphs (g)(1) or (2) of this AD, as applicable for your model helicopter.

(1) For Model AS332C1, AS332L1, AS332L2, and EC225LP helicopters:

(i) Inspect the cabin and cockpit for labels, placards, or markings that prohibit stowing anything under the seats in the locations shown in the figure in the Appendix of Airbus Helicopters Alert Service Bulletin No. AS332-01.00.85 or No. EC225-04A012, both Revision 0 and dated August 26, 2014; or Airbus Helicopters Alert Service Bulletin No. AS332-01.00.85, Revision 1, dated September 7, 2017, or Airbus Helicopters Alert Service Bulletin No. EC225-04A012, Revision 2, dated November 6, 2019; as applicable for your model helicopter.

(ii) If a label, placard, or marking is not located in every location depicted in the figure in the Appendix or is not visible and legible to every occupant, before further flight, install a placard in accordance with the Accomplishment Instructions, paragraph 3.B., of Airbus Helicopters Alert Service Bulletin No. AS332 01.00.85 or No. EC225 04A012, both Revision 0 and dated August 26, 2014; or Airbus Helicopters Alert Service Bulletin No. AS332 01.00.85, Revision 1, dated September 7, 2017, or Airbus Helicopters Alert Service Bulletin No. EC225-04A012, Revision 2, dated November 6, 2019; as applicable for your model helicopter.

(2) For Model AS-365N2, AS 365 N3, EC 155B, and EC155B1 helicopters:

(i) Inspect each seat leg in the cabin and cockpit for labels, placards, or markings that prohibit stowing anything under the seats.

(ii) If a label, placard, or marking does not exist on one leg of each seat or is not visible and legible, before further flight, install a placard in accordance with the Accomplishment Instructions, paragraph 3.B., and the Appendix of Airbus Helicopters Alert Service Bulletin No. AS365-01.00.66 or No. EC155-04A013, both Revision 0 and dated August 26, 2014; or Airbus Helicopters Alert Service Bulletin No. AS365-01.00.66 or No. EC155-04A013, both Revision 1 and dated February 12, 2019; as applicable for your model helicopter.

(h) New Inspection and Corrective Actions for Certain Helicopters

(1) For Model AS332C and AS332L helicopters: Within 110 hours time in service or 30 days, whichever occurs first, after the effective date of this AD, inspect the cabin and cockpit for labels, placards, or markings that prohibit stowing anything under the seats in the locations shown in the figure in the Appendix of Airbus Helicopters Alert Service Bulletin No. AS332-01.00.85, Revision 1, dated September 7, 2017.

(2) If a label, placard, or marking is not located in every location depicted in the figure in the Appendix or is not visible and legible to every occupant, before further flight, install a placard in accordance with the Accomplishment Instructions, paragraph 3.B., of Airbus Helicopters Alert Service Bulletin No. AS332-01.00.85, Revision 1, dated September 7, 2017.

(i) New Requirements of This AD: Modification (Install New Placards)

(1) At the applicable times specified in paragraph (i)(2) of this AD, install new placards prohibiting stowage of any object under an energy-absorbing seat in accordance with the Accomplishment Instructions, paragraph 3.B., of the applicable service information specified in paragraphs (i)(1)(i) through (vii) of this AD, except you are not required to discard the old labels (placards). Doing the installation required by this paragraph terminates the requirements of paragraphs (g) and (h) of this AD.

(i) Airbus Helicopters Alert Service Bulletin No. AS332-25.03.16, Revision 0, dated September 7, 2017.

(ii) Airbus Helicopters Alert Service Bulletin No. AS332-25.03.41, Revision 0, dated September 7, 2017.

(iii) Airbus Helicopters Alert Service Bulletin No. AS332-25.03.42, Revision 0, dated September 7, 2017.

(iv) Airbus Helicopters Alert Service Bulletin No. AS365-25.01.67, Revision 0, dated February 12, 2019.

(v) Airbus Helicopters Alert Service Bulletin No. EC155-25A144, Revision 0, dated February 12, 2019.

(vi) Airbus Helicopters Alert Service Bulletin No. EC225-25A179, Revision 1, dated November 6, 2019.

(vii) Airbus Helicopters Alert Service Bulletin No. EC225-25A203, Revision 0, dated September 7, 2017; as applicable for your model helicopter.

(2) At this applicable times specified in paragraph (i)(2)(i) or (ii) of this AD, do the installation required by paragraph (i)(1) of this AD.

(i) For Model AS332C, AS332C1, AS332L, AS332L1, AS332L2, AS-365N2, AS 365 N3, EC 155B, EC155B1, and EC225LP helicopters, all manufacturer serial numbers, except Model EC225LP helicopters, manufacturer serial numbers 2663, 2670, 2854, 2883, 2885, 2901 and 2921: Within 110 hours time in service or 6 months, whichever occurs first after the effective date of this AD.

(ii) For Model EC225LP helicopters, manufacturer serial numbers 2663, 2670, 2854, 2883, 2885, 2901 and 2921: Within 50 hours time in service or 2 months, whichever occurs first after the effective date of this AD.

(j) No Actions Required for Certain Helicopters

For Model AS332C, AS332C1, AS332L, AS332L1, AS332L2, and EC225LP helicopters delivered after September 7, 2017: No actions are required, provided that no energy-absorbing seat, as identified in figure 1 to paragraphs (c) and (j) of this AD, has been installed on that helicopter since delivery.

(k) Credit for Previous Actions

(1) This paragraph provides credit for the actions specified in paragraph (g) of this AD, if those actions were performed before the effective date of this AD using Airbus Helicopters Alert Service Bulletin No. EC225-04A012, Revision 1, dated September 7, 2017.

(2) This paragraph provides credit for the actions specified in paragraph (i)(1) and (2) of this AD, if those actions were performed before the effective date of this AD using Airbus Helicopters Alert Service Bulletin No. EC225-25A179, Revision 0, dated September 7, 2017.

(l) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the International Validation Branch, send it to the attention of the person identified in paragraph (m)(1) of this AD. Information may be emailed to: 9-AVS-AIR-730-AMOC@faa.gov. Before using any approved AMOC, notify your appropriate principal inspector, or lacking a principal inspector, the manager of the local flight standards district office/certificate holding district office.

(2) For operations conducted under a 14 CFR part 119 operating certificate or under 14 CFR part 91, subpart K, notify your principal inspector or lacking a principal inspector, the manager of the local flight standards district office or certificate holding district office, before operating any aircraft complying with this AD through an AMOC.

(m) Related Information

(1) For more information about this AD, contact Kathleen Arrigotti, Aviation Safety Engineer, Large Aircraft Section, International Validation Branch, FAA, 2200 South 216th St., Des Moines, WA 98198; phone and fax: 206-231-3218; email: kathleen.arrigotti@faa.gov.

(2) For service information identified in this AD, contact Airbus Helicopters, 2701 N Forum Drive, Grand Prairie, TX 75052; phone: 972-641-0000 or 800-232-0323; fax: 972-641-3775; or at https://www.airbus.com/helicopters/services/technical-support.html. You may view this service information at the FAA, Office of the Regional Counsel, Southwest Region, 10101 Hillwood Pkwy., Room 6N-321, Fort Worth, TX 76177. For information on the availability of this material at the FAA, call 817-222-5110.

Issued on October 1, 2020.
Lance T. Gant,
Director, Compliance & Airworthiness Division, Aircraft Certification Service.

[FR Doc. 2020-22115 Filed 10-6-20; 8:45 am]

BILLING CODE 4910-13-P